DEPARTMENT OF LABOR

Employment and Training Administration

[TA-W-41,197]

3M Corporation, Bedford Park, Argo, Illinois; Notice of Termination of Investigation

Pursuant to section 221 of the Trade Act of 1974, an investigation was initiated on April 1, 2002 in response to a worker petition which was filed on behalf of workers at 3M Corporation, Bedford Park, Argo, Illinois.

An active certification covering the petitioning group of workers remains in effect (TA-W-40,874). Consequently, further investigation in this case would serve no purpose, and the investigation has been terminated.

Signed in Washington, DC, this 30th day of April, 2002.
Linda G. Poole,
Certifying Officer, Division of Trade Adjustment Assistance.

[FR Doc. 02-12395 Filed 5-16-02; 8:45 am]

BILLING CODE 4510-30-M